DEPARTMENT OF HEALTH AND HUMAN SERVICES

Centers for Disease Control and Prevention

Advisory Committee for Injury Prevention and Control (ACIPC) Family and Intimate Violence Prevention Subcommittee: Meeting

In accordance with section 10(a)(2) of the Federal Advisory Committee Act (Pub. L. 92-463), the Centers for Disease Control and Prevention (CDC) announces the following subcommittee meeting.

Name: ACIPC Family and Intimate Violence Prevention Subcommittee.

Time and Date: 8:30 a.m.-12 p.m., April 16, 2002.

Place: The Holiday Inn Select Atlanta-Decatur Hotel and Conference Plaza, 130 Clairmont Avenue, Decatur, Georgia 30030.

Status: Open to the public, limited only by the space available.

Purpose: To advise and make recommendations to ACIPC and the Director, National Center for Injury Prevention and Control (NCIPC), regarding feasible goals for prevention and control of family and intimate violence and sexual assault. The Subcommittee will make recommendations regarding policies, strategies, objectives and priorities.

Matters to be Discussed: The Subcommittee will discuss the (1) FY 2002 Activities of NCIPC and the Division of Violence Prevention (DVP), and (2) Overview of Proposed Changes to the ACIPC.

Agenda items are subject to change as priorities dictate.

Contact Person for More Information: Ms. Pamela Chin, Deputy Director, Office of the Director, DVP, NCIPC, CDC, 4770 Buford Highway, NE, M/S K60, Atlanta, Georgia 30341-3724, telephone 770/488-1378.

Name: Science and Program Review Subcommittee (SPRS) and the Advisory Committee for Injury Prevention and Control (ACIPC): Meetings.

Time and Date: 8 a.m.-12 p.m., April 16, 2002.

Place: The Holiday Inn Select Atlanta-Decatur Hotel and Conference Plaza, 130 Clairmont Avenue, Decatur, Georgia 30030.

Status: Open to the public, limited only by the space available.

Purpose: The Subcommittee provides advice on the needs, structure, progress and performance of the National Center for Injury Prevention and Control (NCIPC) programs. The Subcommittee provides second-level scientific and programmatic review for applications for research grants, cooperative agreements, and training grants related to injury control and violence prevention, and recommends approval of projects that merit further consideration for funding support. The Subcommittee also advises on priorities for research to be supported by contracts, grants, and cooperative agreements and provides concept review of program proposals and announcements.

Matters to be Discussed: Agenda items include updates from the Subcommittee's Executive Secretary, the role of the Subcommittee, fiscal year 2002 research Request for Applications, dissemination of extramural research findings, and a progress report on completing and implementing the research agenda.

Name: Advisory Committee for Injury Prevention and Control.

Time and Dates: 1:30 p.m.-5:30 p.m., April 16, 2002. 8:30 a.m.-3 p.m., April 17, 2002.

Place: The Holiday Inn Select Atlanta-Decatur Hotel and Conference Plaza, 130 Clairmont Avenue, Decatur, Georgia 30030.

Status: Open to the public, limited only by the space available.

Purpose: The Committee advises and makes recommendations to the Secretary, Health and Human Services, the Director, CDC, and the Director, NCIPC, regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters to be Discussed: Agenda items include an update from the Director, NCIPC; a review and determination on committee rules and draft criteria for subcommittees and workgroups; workgroup reports; reports from the Science and Program Review Subcommittee and the Family and Intimate Violence Prevention Subcommittee; a presentation and discussion on state health departments and their role in injury prevention and control; current status of injury prevention and control in states; Association of State and Territorial Health Officials' perspective on the challenges of building capacity for injury control and prevention in state health departments; implementing an injury prevention program in the states; training needs and issues to build capacity in state health departments for injury prevention and control; broadening the focus of injury prevention programs in the areas of intentional and unintentional injury; a presentation on how NCIPC is moving forward; discussion and recommendations from the Committee; progress report on the research agenda; update on NCIPC's Tenth Anniversary Events; and recommendations for presentation to the Committee.

Agenda items are subject to change as priorities dictate.

Contact Person for More Information: Ms. Louise Galaska, Executive Secretary, ACIPC, NCIPC, CDC, 4770 Buford Highway, NE, M/S K02, Atlanta, Georgia 30341-3724, telephone 770/488-4694.

The Director, Management Analysis and Services Office, has been delegated the authority to sign Federal Register notices pertaining to announcements of meetings and other committee management activities, for both the Centers for Disease Control and Prevention and the Agency for Toxic Substances and Disease Registry.

Dated: March 15, 2002.
Alvin Hall,
Acting Director, Management Analysis and Services Office, Centers for Disease Control and Prevention.

[FR Doc. 02-7184 Filed 3-25-02; 8:45 am]

BILLING CODE 4163-18-P